DEPARTMENT OF HEALTH AND HUMAN SERVICES

Office of Inspector General

[Docket Number: OIG-1302-N2]

Special Fraud Alert: Physician-Owned Entities

AGENCY: Office of Inspector General (OIG), HHS.

ACTION: Notice; Correction.

SUMMARY: This document sets forth a correction to the OIG Federal Register notice published on March 29, 2012 (78 FR 19271), on our recently issued Special Fraud Alert on Physician-Owned Entities. Specifically, the Special Fraud Alert addressed physician-owned entities that derive revenue from selling, or arranging for the sale of, implantable medical devices ordered by their physician-owners for use in procedures the physician-owners perform on their own patients at hospitals or ambulatory surgical centers. An inadvertent error appeared in the DATES caption of that document regarding the effective date. Accordingly, we are removing the language regarding the effective date to ensure technical correctness of the document.

FOR FURTHER INFORMATION CONTACT: Patrice S. Drew, Congressional and Regulatory Affairs, Office of Inspector General, (202) 619-1368.

SUPPLEMENTARY INFORMATION: In our publication of the Special Fraud Alert on Physician-Owned Entities, an inadvertent error appeared in the DATES caption on page 19271 regarding the effective date of the Special Fraud Alert. The caption incorrectly indicated that the effective date is March 29, 2013. Since this document is a notice, no effective date is applicable and all language regarding any effective date is deleted.

Daniel R. Levinson,
Inspector General.

[FR Doc. 2013-08749 Filed 4-12-13; 8:45 am]

BILLING CODE 4152-01-P